ENVIRONMENTAL PROTECTION AGENCY

[EPA-HQ-SFUND-2010-0763; FRL-9941-70-OEI]

Information Collection Request Submitted to OMB for Review and Approval; Comment Request; Hazardous Chemical Reporting: Emergency and Hazardous Chemical Inventory Forms (Tier I and Tier II) (Renewal)

AGENCY: Environmental Protection Agency (EPA).

ACTION: Notice.

SUMMARY: The Environmental Protection Agency has submitted an information collection request (ICR), “Hazardous Chemical Reporting: Emergency and Hazardous Chemical Inventory Forms (Tier I and Tier II) (Renewal)” (EPA ICR No. 2436.03, OMB Control No. 2050-0206) to the Office of Management and Budget (OMB) for review and approval in accordance with the Paperwork Reduction Act (44 U.S.C. 3501 et seq.). This is a proposed extension of the ICR, which is currently approved through March 31, 2016. Public comments were previously requested via the Federal Register (80 FR 62526) on October 16, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 25, 2016.

ADDRESSES: Submit your comments, referencing Docket ID Number, EPA-HQ-SFUND-2010-0763, to (1) EPA online using www.regulations.gov (our preferred method), by email to superfund.docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, Mail Code 5104A, Environmental Protection Agency, 1200 Pennsylvania Ave. NW., Washington, DC 20460; telephone number: (202) 564-8019; fax number: (202) 564-2620; email address: jacob.sicy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Sections 311 and 312 of the Emergency Planning and Community Right-to-Know Act (EPCRA) apply to the owner or operator of any facility that is required to prepare or have available a Material Safety Data Sheet (MSDS) for a hazardous chemical under the Occupational Safety and Health Act of 1970 and its implementing regulations. Under section 311 of EPCRA, these facilities are required to submit MSDS to the State Emergency Response Commission (SERC), the Local Emergency Planning Committee (LEPC), and the local fire department for each hazardous chemical stored on-site in a quantity greater than the reporting threshold. Section 312 of EPCRA requires owners and operators of facilities to annually report the inventories of those chemicals reported under section 311. EPA is required to publish two emergency and hazardous chemical inventory forms, “Tier I” and “Tier II,” for use by these facilities. On July 13, 2012, EPA further revised these forms to add some new data elements that would be useful for local emergency planners and responders. In ICR 2436.02, EPA estimated that after the initial reporting of the new data elements, it would only take 0.25 hours per facility to review the new data elements and revise if necessary. New data elements added to page one of the Tier II form included contact information for facility emergency coordinator; Tier II information; whether facility is manned or unmanned; if the facility is subject to EPCRA Section 302 or CAA Section 112(r) (Risk Management Program) etc.

Form Numbers: 8700-29 and 8700-30.

Respondents/affected entities: Facilities with hazardous chemicals above the reporting thresholds specified in the regulations at 40 CFR part 370.

Respondent's obligation to respond: Mandatory (Section 312 of EPCRA).

Estimated number of respondents: 400,000 (total).

Frequency of response: Annual.

Total estimated burden: 100,000 hours (per year). Burden is defined at 5 CFR 1320.03(b).

Total estimated cost: $3,760,400 (per year), includes $0 annualized capital or operation & maintenance costs.

Changes in the Estimates: There is a decrease of 62,500 hours in the total estimated respondent burden compared with the ICR currently approved by OMB. This decrease is because the burden of reading the rule and modifying their software was only necessary at the onset of the rule.

Courtney Kerwin,
Acting Director, Collection Strategies Division.

[FR Doc. 2016-01482 Filed 1-25-16; 8:45 am]

BILLING CODE 6560-50-P